DEPARTMENT OF COMMERCE

National Oceanic and Atmospheric Administration

I.D. [081905B]

Notice of Decision to Expand Scope of the Environmental Impact Statement Analyzing the Makah Tribe's Proposed Gray Whale Hunting and Reopening of Comment Period

AGENCY: National Marine Fisheries Service (NMFS), National Oceanic and Atmospheric Administration (NOAA), Commerce.

ACTION: Notice; request for comments.

SUMMARY: NMFS announces our decision to expand the scope of the Makah Whale Hunt Environmental Impact Statement (EIS) to include analysis of the proposed action on the affected environment under both the Marine Mammal Protection Act (MMPA) and the Whaling Convention Act (WCA). Our previous notices of intent to prepare an EIS for the Makah Whale Hunt under the MMPA were published on August 25, 2005 and October 4, 2005. We are reopening the comment period for 30 days.

DATES: Written or electronic comments from all interested parties are encouraged and must be received no later than 5 p.m. Pacific Standard Time March 29, 2006.

ADDRESSES: All comments concerning the preparation of the EIS and NEPA process should be addressed to: Kassandra Brown, NMFS Northwest Region, Building 1, 7600 Sand Point Way NE., Seattle, WA 98115. Comments may also be submitted via fax (206)526-6426 Attn: Makah Whale Hunt EIS, or by electronic mail to MakahEIS.nwr@noaa.gov with a subject line containing the document identifier:“Makah Whale Hunt EIS.”

FOR FURTHER INFORMATION CONTACT: Kassandra Brown, NMFS Northwest Region, (206) 526-4348.

SUPPLEMENTARY INFORMATION:

Background

On August 25, 2005 (70 FR 49911) and October 4, 2005 (70 FR 57860), NMFS announced our intent to prepare an EIS pursuant to the National Environmental Policy Act (NEPA) (42 U.S.C. et seq.) and conduct public scoping meetings related to the Makah Indian Tribe's request that NMFS allow for limited treaty right hunting of eastern North Pacific gray whales by waiving the MMPA's (16 U.S.C. 1361 et seq.) moratorium on take of marine mammals under section 101(a)(3)(A) (16 U.S.C. 1371(a)(3)(A)), and issuing regulations and any necessary permit(s). We opened a 60-day public comment period from August 25, 2005 to October 24, 2005, and held public scoping meetings at four locations in October 2005, including Neah Bay, Port Angeles, and Seattle, WA, and the Washington, DC area (Silver Spring, MD). We sought public input on the scope of the required NEPA analysis at that time, in addition to seeking comment for a range of reasonable alternatives and impacts to resources. Due in part to our examination of public comments related to the International Whaling Commission (IWC) and WCA (16 U.S.C. 916 et seq.) quota granting and issuance processes, we are expanding the scope of this EIS to include analysis of the WCA quota issuance. The MMPA waiver determination and the WCA quota issuance are best treated as connected actions (50 CFR 1508.25(a)(1)) for NEPA review because the Makah's proposed action of hunting whales cannot occur without NMFS' approvals under both statutory regimes.

Request for Comments

NMFS solicits written comments from the public. We request that the comments be as specific as possible with regard to our expansion of the scope of the EIS to include the WCA quota issuance. All comments and materials received, including names and addresses, will become part of the administrative record and may be released to the public. The environmental review of this project will be conducted in accordance with the requirements of the NEPA of 1969 as amended, Council on the Environmental Quality Regulations (40 CFR parts 1500 - 15080), other applicable Federal laws and regulations, and applicable policies and procedures. This notice is being furnished in accordance with 40 CFR 1501.7 of NEPA to obtain suggestions and information from other agencies and the public on the scope of issues and alternatives to be addressed in the EIS.

Dated: February 17, 2006.
D. Robert Lohn,
Regional Administrator, Northwest Region, National Marine Fisheries Service.

[FR Doc. E6-2735 Filed 2-24-06; 8:45 am]

BILLING CODE 3510-22-S